DEPARTMENT OF TRANSPORTATION

Federal Aviation Administration

14 CFR Part 39

[Docket No. 2003-NE-21-AD; Amendment 39-13183; AD 2003-11-23]

RIN 2120-AA64

Airworthiness Directives; International Aero Engines AG (IAE) V2522-A5, V2524-A5, V2527-A5, V2527E-A5, V2527M-A5, and V2530-A5 Turbofan Engines

AGENCY: Federal Aviation Administration (FAA), DOT.

ACTION: Final rule; request for comments.

SUMMARY: The FAA is adopting a new airworthiness directive (AD) for certain IAE V2522-A5, V2524-A5, V2527-A5, V2527E-A5, V2527M-A5, and V2530-A5 turbofan engines. This AD requires initial and repetitive inspections of the master magnetic chip detector (MCD) or the No. 1, 2, 3 bearing chamber MCD. This AD is prompted by reports of No. 3 bearing failures that resulted in in-flight engine shutdowns (IFSDs) and significant smoke in the cockpit and cabin. The actions specified in this AD are intended to prevent failure of the No. 3 bearing, which could result in IFSDs and smoke in the cockpit and cabin.

DATES: Effective June 20, 2003.

We must receive any comments on this AD by August 4, 2003.

ADDRESSES: Use one of the following addresses to submit comments on this AD:

• By mail: The Federal Aviation Administration (FAA), New England Region, Office of the Regional Counsel, Attention: Rules Docket No. 2003-NE-21-AD, 12 New England Executive Park, Burlington, MA 01803-5299.

• By fax: (781) 238-7055.

• By e-mail: 9-ane-adcomment@faa.gov.

You may get the service information referenced in this AD from International Aero Engines AG, 400 Main Street, East Hartford, CT 06108; telephone: (860) 565-5515; fax: (860) 565-5510.

You may examine the AD docket at the FAA, New England Region, Office of the Regional Counsel, 12 New England Executive Park, Burlington, MA.

FOR FURTHER INFORMATION CONTACT: Glorianne Niebuhr, Aerospace Engineer, Engine Certification Office, FAA, Engine and Propeller Directorate, 12 New England Executive Park, Burlington, MA 01803; telephone (781) 238-7132; fax (781) 238-7199.

SUPPLEMENTARY INFORMATION: This AD applies to IAE V2522-A5, V2524-A5, V2527-A5, V2527E-A5, V2527M-A5, and V2530-A5 turbofan engines with a serial number (SN) from V10600 through V11250 inclusive. This AD requires initial and repetitive inspections of the master MCD or the No. 1, 2, 3 bearing chamber MCD for contamination, and if the contamination is bearing material, replacement of the engine before further flight.

This AD is prompted by 19 failures of the No. 3 bearing attributed to ball spalling and race fracture. Of the 19 failures, seven resulted in IFSDs and 12 resulted in unscheduled engine removals (UERs). Of the seven IFSDs, two were associated with smoke in the cockpit and cabin. The smoke is a result of the failure of the No. 3 bearing. Ball spalling and race fracture of the No. 3 bearing occurs when there is hard particle contamination in the oil system. The contamination is caused by the release of coating particles on HPC stubshafts with low-energy plasma coating. The problem exists on the FAG bearings, part number 2A1165, which are less tolerant to damage from this contamination. The actions specified in this AD are intended to prevent failure of the No. 3 bearing, which could result in IFSDs and smoke in the cockpit and cabin.

FAA's Determination and Requirements of This AD

The unsafe condition described previously is likely to exist or develop on other IAE V2522-A5, V2524-A5, V2527-A5, V2527E-A5, V2527M-A5, and V2530-A5 turbofan engines with a SN from V10600 through V11250 inclusive of the same type design. Therefore, we are issuing this AD to prevent failure of the No. 3 bearing, which could result in IFSDs and smoke in the cockpit and cabin. This AD requires:

• Initial inspection of the master MCD or the No. 1, 2, 3 bearing chamber MCD within 125 hours time-in-service (TIS) after the effective date of this AD,

• Repetitive inspections of the master MCD or the No. 1, 2, 3 bearing chamber MCD within 125 hours time-since-last inspection.

Interim Action

These actions are interim actions and we may take further rulemaking actions in the future.

FAA's Determination of the Effective Date

Since an unsafe condition exists that requires the immediate adoption of this AD, we have found that notice and opportunity for prior public comment are impracticable, and that good cause exists for making this amendment effective in less than 30 days.

Changes to 14 CFR Part 39—Effect on the AD

On July 10, 2002, we issued a new version of 14 CFR part 39 (67 FR 47997, July 22, 2002), which governs our AD system. This regulation now includes material that relates to special flight permits, alternative methods of compliance, and altered products. This material previously was included in each individual AD. Since this material is included in 14 CFR part 39, we will not include it in future AD actions.

Comments Invited

This AD is a final rule that involves requirements affecting flight safety and was not preceded by notice and an opportunity for public comment; however, we invite you to submit any written relevant data, views, or arguments regarding this AD. Send your comments to an address listed under ADDRESSES. Include “AD Docket No. 2003-NE-21-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

We are reviewing the writing style we currently use in regulatory documents. We are interested in your comments on whether the style of this document is clear, and your suggestions to improve the clarity of our communications with you. You may get more information about plain language at http://www.plainlanguage.gov.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-21-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2003-11-23 International Aero Engines AG: Amendment 39-13183. Docket No. 2003-NE-21-AD.

Effective Date

(a) This airworthiness directive (AD) becomes effective June 20, 2003.

Affected ADs

(b) None.

Applicability: (c) This AD is applicable to International Aero Engines AG (IAE) V2522-A5, V2524-A5, V2527-A5, V2527E-A5, V2527M-A5, and V2530-A5 turbofan engines with a serial number (SN) from V10600 through V11250 inclusive. These engines are installed on, but not limited to, Airbus Industries A319, A320, and A321 series airplanes.

Unsafe Condition

(d) This AD was prompted by reports of No. 3 bearing failures that resulted in in-flight shutdowns (IFSDs) and smoke in the cockpit and cabin. The actions specified in this AD are intended to prevent failure of the No. 3 bearing, which could result in IFSDs and smoke in the cockpit and cabin.

Compliance

(e) Compliance with this AD is required as indicated, unless already done.

Inspection of the Master Magnetic Chip Detector (MCD) or the No. 1, 2, 3 Bearing Chamber MCD

(f) For engines that have a No. 3 bearing, part number 2A1165, installed, do the following:

(1) Within 125 hours time-in-service (TIS) after the effective date of this AD, inspect the master MCD or the No. 1, 2, 3 bearing chamber MCD.

(2) Thereafter, within 125 hours time-since-last inspection, inspect the master MCD or the No. 1, 2, 3 bearing chamber MCD.

(3) If you find bearing material on the master MCD or No. 1, 2, 3 bearing chamber MCD, replace the engine before further flight.

Alternative Methods of Compliance

(g) Alternative methods of compliance must be requested in accordance with 14 CFR part 39.19, and must be approved by the Manager, Engine Certification Office, FAA.

Material Incorporated by Reference

(h) None.

Related Information

(i) You can find information on inspecting the master MCD and the No. 1, 2, 3 bearing chamber MCD in section 79-00-00-601 of the Aircraft Maintenance Manual.

Issued in Burlington, Massachusetts, on May 29, 2003.
Francis A. Favara,
Acting Manager, Engine and Propeller Directorate, Aircraft Certification Service.

[FR Doc. 03-14133 Filed 6-4-03; 8:45 am]

BILLING CODE 4910-13-P